DEPARTMENT OF DEFENSE

Office of the Secretary

[Transmittal Nos. 12-18]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-18 with attached transmittal and policy justification.

Dated: July 2, 2012.
Aaron Siegel,
Alternate OSD Federal Register Liaison Officer, Department of Defense.

BILLING CODE 5001-06-P

BILLING CODE 5001-06-C

Transmittal No. 12-18—Notice of Proposed Issuance of Letter of Offer Pursuant to Section 36(b)(1) of the Arms Export Control Act, as amended

(i) Prospective Purchaser: Kuwait

(ii) Total Estimated Value:

Major Defense Equipment * | $17 million
Other | $34 million
Total | $51 million

(iii) Description and Quantity or Quantities of Articles or Services under Consideration for Purchase: 43 Joint Helmet Mounted Cueing System Cockpit Units, Single Seat Electronic Units, Helmet Display Units, spare and repair parts, support equipment, tool and test equipment, personnel training and training equipment, publications and technical data, U.S. Government and contractor technical and logistics personnel services and other related elements of program and logistics support.

(iv) Military Department: Navy (LPY)

(v) Prior Related Cases, if any: None

(vi) Sales Commission, Fee, etc., Paid, Offered, or Agreed to be Paid: None

(vii) Sensitivity of Technology Contained in the Defense Article or Defense Services Proposed to be Sold: None

(viii) Date Report Delivered to Congress: 26 June 2012

* as defined in Section 47(6) of the Arms Export Control Act.

Policy Justification—Kuwait—Joint Helmet Mounted Cueing Systems (JHMCS)

The Government of Kuwait has requested a possible sale of 43 Joint Helmet Mounted Cueing System Cockpit Units, Single Seat Electronic Units, Helmet Display Units, spare and repair parts, support equipment, tool and test equipment, personnel training and training equipment, publications and technical data, U.S. Government and contractor technical and logistics personnel services and other related elements of program and logistics support. The estimated cost is $51 million.

This proposed sale will contribute to the foreign policy and national security of the United States by helping to improve the security of a friendly country which has been, and continues to be, an important force for political stability and economic progress in the Middle East.

The Government of Kuwait is modernizing its fighter aircraft fleet to better support its own air defense needs. This proposed sale will contribute to Kuwait's military goal of updating its capability while further enhancing its interoperability with the U.S. and other allies.

The proposed sale of this equipment will not alter the basic military balance in the region.

The principal contractors will be Boeing Aerospace in St. Louis, Missouri. There are no known offset agreements proposed in connection with this potential sale.

Implementation of this proposed sale will require travel of U.S. Government or contractor representatives to Kuwait on a temporary basis for program, technical support, and management oversight.

There will be no adverse impact on U.S. defense readiness as a result of this proposed sale.

[FR Doc. 2012-16556 Filed 7-5-12; 8:45 am]

BILLING CODE 5001-06-P